RAILROAD RETIREMENT BOARD

Notice of Closed Meeting; Sunshine Act

Notice is hereby given that the Railroad Retirement Board will hold a closed meeting on November 30, 2016 beginning at 10:00 a.m. at the Board's meeting room on the 8th floor of its headquarters building, 844 North Rush Street, Chicago, Illinois, 60611. The agenda for this meeting follows:

Closed meeting notice:

(1) General Counsel Position

The person to contact for more information is Martha P. Rico, Secretary to the Board, Phone No. 312-751-4920.

Dated: November 17, 2016.
Martha P. Rico,
Secretary to the Board.

[FR Doc. 2016-28176 Filed 11-18-16; 11:15 am]

BILLING CODE 7905-01-P